ENVIRONMENTAL PROTECTION AGENCY

[FRL-6906-1]

Agency Information Collection Activities: Proposed Collection; Comment Request; Evaluations of Project XL Innovations

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Evaluations of Project XL Innovations (EPA ICR No. 1993.01). Before submitting the ICR to OMB for review and approval, EPA is soliciting comments on specific aspects of the proposed information collection as described below.

DATES: Comments must be submitted on or before January 22, 2001.

ADDRESSES: The public may contact Mr. Eric Marsh in EPA's Office of Environmental Policy Innovation for a paper copy of the ICR (free of charge) or may download a copy of the ICR from the Internet at http://www.epa.gov/ProjectXL/. Mr. Marsh may be reached by mail at the U.S. EPA Office of Environmental Policy Innovation (Mail Code 1802), Ariel Rios Building, 1200 Pennsylvania Avenue, NW., Washington, DC 20460; by telephone at (202) 260-2782, by email at marsh.eric@epa.gov, or by FAX at 202-260-1812.

FOR FURTHER INFORMATION CONTACT: Ms. Katherine Dawes in the Office of Environmental Policy Innovation. Ms. Dawes may be reached by phone at (202) 260-8394, by email at dawes.katherine@epa.gov, or by FAX at 202-260-3125.

SUPPLEMENTARY INFORMATION: Affected entities: Entities potentially affected by this action include XL project sponsors, XL project stakeholders, state, tribal and local regulatory agencies, select members of the business industry, environmental organizations, industry trade associations, academics, and community members.

Title: Evaluations of Project XL Innovations (EPA ICR No.1993.01).

Abstract: In March 1995, the U.S. Environmental Protection Agency initiated Project XL in response to the challenge to transform the environmental regulatory system to better meet the needs of a rapidly changing society while maintaining the nation's commitment to protect human health and safeguard the natural environment. Through Project XL, which stands for eXcellence and Leadership, EPA enters into project agreements with public or private sector sponsors to test regulatory, policy, and procedural alternatives that will produce data and experiences to help the Agency make improvements in the current system of environmental protection. The goal of Project XL is to implement projects that will test ways of producing superior environmental performance with improved economic efficiencies, while increasing public participation through active stakeholder processes. EPA currently has 48 XL projects in implementation and expects to achieve the milestone of 50 signed projects by the end of November 2000.

In May 2001, EPA would like to begin in-depth evaluations of different Project XL innovations in order to determine which, if any, innovations have the potential for national application. Currently, EPA has identified more than 65 innovations resulting from projects in implementation. These innovations center around regulations, permitting, environmental information management, compliance and enforcement, environmental stewardship, and stakeholder involvement. From the identified innovations, EPA plans to evaluate a select set the Agency believes has potential for broader application. As more XL projects move into implementation and more innovations emerge, EPA plans to continue this same process of selecting a set of new innovations and then evaluating them.

The evaluation of XL innovations will serve a variety of purposes. First, by learning which innovations are working and which are not, EPA management can better discern which innovations can be applied on a wider-scale, which need further testing and refining before wide-scale adoption, and which should eventually be retired. Second, the evaluations will provide information to state, tribal, and local agencies attempting their own unique efforts to transform their regulatory systems. Third, they will inform industry representatives and the public, allowing them to play an active, creative role in finding solutions to environmental problems. Finally, the evaluations will help set the course for future EPA XL initiatives.

To conduct an evaluation, EPA will select a particular innovation and then identify a list of people EPA could interview to learn more about that particular innovation. EPA will then choose from a set of questions pre-approved by OMB to develop specific interview questionnaires for the different categories of persons to be interviewed. For instance, one interview questionnaire will be developed solely for projects sponsors or persons in similar positions at different companies/facilities that would reasonably be interested in the innovation. Others will be developed for state and local agency officials, academia, community stakeholders, etc. The evaluations will then be analyzed by EPA with the results going into a report. Participation in the evaluations are strictly voluntary and individual responses will be confidential.

As a start, EPA intends to begin evaluating permit innovations from projects that have been in implementation for at least a year. In order to determine which, if any, permit innovations can be applied on a wider-scale, the Agency hopes to learn about the environmental benefits and other incentives the permit innovation has provided; if other facilities/companies are interested in applying for the same type of innovation; if the innovation needs to be tested again before it can be widely adopted; and if the innovation addresses the public's concerns and stakeholder information needs. All interviews will be conducted by phone.

The types of innovation questions that will be asked are discussed in more detail in the ICR supplementary statement. Regarding permit innovations, EPA will use questions to collect data listed below:

• Description of permit innovation (extent to which innovation originally envisioned at start of project matches innovation in implementation)

• Predictability of permit innovation

• Extent to which permit innovation has reduced/increased administrative burden

• Extent to which permit innovation has resulted in environmental benefits

• Extent to which permit innovation has resulted in efficiencies

• Extent to which public has increased access to data as a result of permit innovation

• Extent to which public accepts permit innovation

• Extent to which permit innovation allows for accountability

• Extent to which permit innovation allows for proper compliance and/or enforcement

• Extent to which permit accounts for environmental justice concerns

• Extent to which permit innovation is transferable to other companies/sectors

An agency may not conduct or sponsor, and a person is not required to respond to, a collection of information unless it displays a currently valid OMB control number. The OMB control numbers for EPA's regulations are listed in 40 CFR Part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of information to be collected: and

(iv) Minimize the burden of the collection of information on those who are to respond, including through the use of appropriate automated electronic, mechanical, or other technological collection techniques or other forms of information technology; e.g., permitting electronic submissions of responses.

Burden Statement: It is estimated that there will be two hundred respondents annually to the Project XL innovation interviews requiring 200 burden hours at a total cost of $12,800. EPA estimates that each respondent will spend approximately two hours reviewing the questions before participating in the phone interview, and each respondent will spend one hour on the phone participating during the interview. To fulfill all information collection requirements for respondents, EPA estimates that it will cost each respondent approximately $192 and take approximately three hours. Divided by three years, since ICRs are approved for three year periods, this comes out to approximately $64 and one hour per respondent per year. No capital or start-up costs will be associated with this effort.

It is also estimated that there will be 60 respondents annually to the Project XL permit innovation interviews requiring 60 burden hours at a total cost of $3,840. EPA estimates that each respondent will spend approximately two hours reviewing the questions before participating in the phone interview, and each respondent will spend one hour on the phone participating in the interview. To fulfill all information collection requirements for respondents, EPA estimates that it will cost each respondent approximately $192 and take approximately three hours. Divided by three years, since ICRs are approved for three year periods, this comes out to approximately $64 and one hour per respondent per year. No capital or start-up costs will be associated with this effort.

Burden means total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: November 13, 2000.
Elizabeth A. Shaw,
Director, Office of Environmental Policy Innovation.

[FR Doc. 00-29881 Filed 11-21-00; 8:45 am]

BILLING CODE 6560-50-P